DEPARTMENT OF THE TREASURY

Performance Review Board

AGENCY: Department of the Treasury.

ACTION: Notice.

SUMMARY: This notice lists the membership to the Departmental Offices' Performance Review Board (PRB) and supersedes the list published in Federal Register 54601, Vol. 65, No. 174, dated September 8, 2000, in accordance with 5 U.S.C. 4314(c)(4). The purpose of the PRB is to review the performance of members of the Senior Executive Service and make recommendations regarding performance ratings, performance awards, and other personnel actions.

The names and titles of the PRB members are as follows:

Steven O. App—Deputy Chief Financial Officer

Maria E. Canales—Director, Liaison and Business Services

Mary Chaves—Director, Office of International Trade

Marcia H. Coates—Director, Office of Equal Opportunity Program

Edward J. DeMarco—Director, Office of Government Sponsored Enterprises Policy

Anna F. Dixon—Director, Office of Enforcement Budget Res. Policy

Kay Frances Dolan—Deputy Assistant Secretary (Human Resources)

James Fall, III—Deputy Assistant Secretary (Technical Assistance Policy)

James J. Flyik—Deputy Assistant Secretary, (Information Systems) and Chief Information Officer

Geraldine A. Geradi—Director, Business Taxation

Ronald A. Glaser—Director, Office of Personnel Policy

John C. Hambor—Director, Office of Policy Analysis

Barry K. Hudson—Director, Office of Financial Management

Donald W. Kiefer—Director, Office of Tax Analysis

Jeffrey F. Kupfer—Executive Secretary

David A. Lebryk—Deputy Assistant Secretary (Fiscal Operations and Policy)

Nancy Lee—Director, Office of Central and Eastern European Nations

James R. Lingebach—Director, Office of Accounting and Internal Control

David G. Loevinger—Director, East Asian Nations

Carl L. Moravitz—Director, Office of Budget

William C. Murden—Director, Office of International Banking and Securities Markets

Robert R. Newcomb—Director, Office of Foreign Assets Control

Joel D. Platt—Director, Revenue Estimating

Steven C. Radelet—Deputy Assistant Secretary (Asia, The Americas and Africa)

William C. Randolph—Director, International Taxation

Corey Rindner—Director, Office of Procurement

Michael L. Romey—Special Assistant to the Secretary National Security

Mary Beth Shaw—Director, DC Pensions Project Office

Gay H. Sills—Director, Office of International Investment

James F. Sloan—Director, FinCen

Mark D. Sobel—Deputy Assistant Secretary (International Money & Financial Policy)

Eric Solomon—Deputy Assistant Secretary (Regulatory Affairs)

Jane L. Sullivan—Director, Information Technology and Policy Strategy

Thomas C. Wiesner—Director, Customer Service Infrastructure and Operations

FOR FURTHER INFORMATION CONTACT: Barbara A. Hagle, Executive Secretary, PRB, U.S. Department of the Treasury, 1500 Pennsylvania Avenue, NW., Room 6109, Metropolitan Square, Washington, DC 20220. Telephone: 202-622-2209. This notice does not meet the Department's criteria for significant regulations.

James J. Flyzik,
Acting Assistant Secretary for Management, and Chief Information Officer.

[FR Doc. 01-22592 Filed 9-7-01; 8:45 am]

BILLING CODE 4810-25-M